NATIONAL SCIENCE FOUNDATION

Notice of Networking and Information Technology Research and Development Science, Technology, Engineering, and Math (STEM) Portal

AGENCY: Networking and Information Technology Research and Development (NITRD) National Coordination Office (NCO), National Science Foundation.

ACTION: Notice.

SUMMARY: The Networking and Information Technology Research and Development Program is announcing a Science, Technology, Engineering, and Math (STEM) Portal that provides a one-stop resource for Federal cyberlearning, computational literacy, and information technology training opportunities at all education levels to champion a diverse, inclusive, and well-trained workforce capable of future innovations. The resource provides details on programs targeting all levels of education and experience.

DATES: The guidance portal is accessible by the public on May 6, 2021.

ADDRESSES: NITRD's STEM Portal is available at https://www.nitrd.gov/STEM4ALL/.

FOR FURTHER INFORMATION CONTACT: Adrian Baranyuk, nco@nitrd.gov, or 202-459-9687.

SUPPLEMENTARY INFORMATION: Increasing the availability of STEM opportunities is a priority in the Biden-Harris Administration. Computational literacy is critical for America to maintain leadership in science and technology. NITRD and its participating agencies are prioritizing STEM education at all levels, to champion a diverse, inclusive, and well-trained workforce capable of future innovation. This portal was developed to cultivate STEM engagement and training; it provides the entry into an exciting and dynamic career.

This STEM Portal provides programs targeted to all levels of experience so there is something for everyone interested in technology careers and advanced training. It gives in one location a searchable database of opportunities at Federal agencies for internships, scholarships, and other training programs. Each listing includes the description, link, and contact information for the program. The search filters provide flexibility to target the opportunities of interest. The pull-down menu for Education Level Eligibility provides opportunities for community college students, undergraduates and graduates, postdoctoral fellows, early career researchers, K-12 Educators, and K-12 students.

Submitted by the National Science Foundation in support of the Networking and Information Technology Research and Development (NITRD) National Coordination Office (NCO) on May 3, 2021.

Suzanne H. Plimpton,
Reports Clearance Officer, National Science Foundation.

[FR Doc. 2021-09599 Filed 5-5-21; 8:45 am]

BILLING CODE 7555-01-P